DEPARTMENT OF JUSTICE

[OMB Number 1125-0007]

Agency Information Collection Activities; Proposed Collection eComments Requested; Revision and Extension of a Previously Approved Collection; Immigration Practitioner/Organization Complaint Form (EOIR-44)

AGENCY: Executive Office for Immigration Review, Department of Justice.

ACTION: 30-Day notice.

SUMMARY: The Executive Office for Immigration Review (EOIR), Department of Justice (DOJ), will be submitting the following information collection request (ICR) to the Office of Management and Budget (OMB) for review and approval in accordance with the Paperwork Reduction Act of 1995. The proposed information collection was previously published in the Federal Register on July 2, 2025, allowing a 60-day comment period.

DATES: Comments are encouraged and will be accepted for 30 days until October 9, 2025.

FOR FURTHER INFORMATION CONTACT: If you have comments especially on the estimated public burden or associated response time, suggestions, or need a copy of the proposed information collection instrument with instructions or additional information, please contact: Justine Fuga, Associate General Counsel, Office of the General Counsel, Executive Office for Immigration Review, 5107 Leesburg Pike, Suite 2600, Falls Church, VA 22041, telephone: (703) 305-0265, Justine.Fuga@usdoj.gov, eoir.pra.comments@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1125-0007. This ICR may be viewed at www.reginfo.gov. Follow the instructions to view Department of Justice information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision and extension of a previously approved collection.

2. Title of the Form/Collection: Immigration Practitioner/Organization Complaint Form.

3. Agency form number, if any, and the applicable component of the Department of Justice sponsoring the collection: The agency form number is EOIR-44, and the sponsoring component is EOIR.

4. Affected public who will be asked or required to respond, as well as a brief abstract:

Affected Public: Individuals and households.

Abstract: Any individual may file a complaint against an immigration practitioner authorized to practice before the Board of Immigration Appeals (Board) and the immigration courts of EOIR. See 8 CFR 1003.102. An individual filing a complaint regarding a practitioner's behavior in proceedings before EOIR must file the complaint in writing by mail or email to EOIR's Office of the General Counsel's Attorney Discipline Unit (ADU) using Form EOIR-44. The completed form must state in detail certain information supporting the complaint, including the name and address of both the complainant and the practitioner, the date and nature of the alleged conduct or behavior at issue, the individuals involved, the harm to or damages incurred by the complainant, and any other relevant information. See 8 CFR 1003.104(a)(2). The information on this form will be used to determine whether the ADU should conduct a preliminary disciplinary inquiry, request additional information from the complainant, refer the matter to a state bar disciplinary authority or other law enforcement agency, or take no further action. EOIR has revised the Privacy Act Notice on the form to update citations to legal authority and clarify how EOIR uses the collected information.

5. Obligation to Respond: Voluntary.

6. Total Estimated Number of Respondents: 100.

7. Estimated Time per Respondent: 2 hours.

8. Frequency: Once a year.

9. Total Estimated Annual Time Burden: 200 hours.

10. Total Estimated Annual Other Costs Burden: The total estimated annual public cost is $1,020. There are no capital or start-up costs associated with this information collection. There are no fees associated with filing the form. Most responses are printed and submitted by mail to the agency. The total annual printing cost to individuals is estimated at $10.00 ($0.10 per page × 1 page × 100 respondents). The total postage cost to individuals is estimated at $1,010.00 ($10.10 Priority Mail flat rate envelope × 100 respondents). However, the printing and postage costs may be avoided by electronically completing the form and submitting the form by email.

If additional information is required, contact: Darwin Arceo, Department Clearance Officer, Enterprise Portfolio Management, Justice Management Division, United States Department of Justice, Two Constitution Square, 145 N Street NE, 4W-218 Washington, DC 20530.

Dated: September 5, 2025.
Darwin Arceo,
Department Clearance Officer for PRA, U.S. Department of Justice.

[FR Doc. 2025-17276 Filed 9-8-25; 8:45 am]

BILLING CODE 4410-30-P